SECURITIES AND EXCHANGE COMMISSION

[File No. 500-1]

Hat Trick Beverage, Inc.; Order of Suspension of Trading

October 27, 2008.

It appears to the Securities and Exchange Commission that the public interest and the protection of investors require a suspension of trading in the securities of Hat Trick Beverage, Inc. because there is a lack of current and accurate information concerning its securities. Questions have arisen concerning the accuracy and adequacy of statements in the company's press releases regarding its business operations. Hat Trick Beverage, Inc., a company that has made no public filings with the Commission, is quoted on the Pink Sheets under the ticker symbol HKBV.

The Commission is of the opinion that the public interest and the protection of investors require a suspension of trading in securities of the above-listed company. Therefore, it is ordered, pursuant to Section 12(k) of the Securities Exchange Act of 1934, that trading in the securities of the above-listed company is suspended for the period from 9:30 a.m. ET, October 27, 2008, through 11:59 p.m. ET, on November 7, 2008.

By the Commission.
J. Lynn Taylor,
Assistant Secretary.

[FR Doc. E8-25881 Filed 10-27-08; 11:15 am]

BILLING CODE 8011-01-P